GENERAL SERVICES ADMINISTRATION

Proposed Modification: Catalog of Federal Domestic Assistance Publication Policy

Correction

In notice document 01-6675 beginning on page 15480 in the issue of Monday, March 19, 2001, make the following corrections:

1. On page 15481, in the first column, under the heading SUMMARY, in the sixth line, “verity” should read “verify”.

2. On the same page, in the second column, in the signature, the name “David A. Bradkin” should read “David A. Drabkin”.

[FR Doc. C1-6675 Filed 3-22-01; 8:45 am]

BILLING CODE 1505-01-D

DEPARTMENT OF TRANSPORTATION

Federal Aviation Administration

14 CFR Part 91

[Docket No. FAA-2000-8552 Amendment No. 91-265]

RIN 2120-AH16

Emergency Locator Transmitters

Correction

In rule document 00-32511 beginning on page 81316 in the issue of Friday, December 22, 2000, make the following correction:

§91.207 [Corrected]

On page 81319, in §91.207(f)(1), in the third column, in the first line, “turbo-powered” should read “turbojet-powered”.

[FR Doc. C0-32511 Filed 3-22-01; 8:45 am]

BILLING CODE 1505-01-D